DEPARTMENT OF THE INTERIOR

National Park Service

[NPS-WASO-NAGPRA-NPS0039190; PPWOCRADN0-PCU00RP14.R50000]

Notice of Inventory Completion: Georgia Department of Natural Resources, Atlanta, GA

AGENCY: National Park Service, Interior.

ACTION: Notice.

SUMMARY: In accordance with the Native American Graves Protection and Repatriation Act (NAGPRA), the Georgia Department of Natural Resources has completed an inventory of human remains and has determined that there is a cultural affiliation between the human remains and Indian Tribes or Native Hawaiian organizations in this notice.

DATES: Repatriation of the human remains in this notice may occur on or after January 13, 2025.

ADDRESSES: Dr. Rachel Black, State Archaeologist, Georgia Department of Natural Resources, 2610 GA Hwy. 155 SW, Stockbridge, GA 30281, telephone (770) 389-7862, email rachel.black@dnr.ga.gov.

SUPPLEMENTARY INFORMATION: This notice is published as part of the National Park Service's administrative responsibilities under NAGPRA. The determinations in this notice are the sole responsibility of the Georgia Department of Natural Resources, and additional information on the determinations in this notice, including the results of consultation, can be found in its inventory or related records. The National Park Service is not responsible for the determinations in this notice.

Abstract of Information Available

Human remains representing, at least, one individual have been identified. No associated funerary objects are present. In December 2023, this individual was located by a hunter on private property in Athens-Clarke County, GA north of Athens. The hunter removed the human remains from the ground surface and brought them to the Athens-Clarke County Police Department. Once the individual was determined to not be part of a forensic case, the human remains were examined by the University of Georgia, Department of Anthropology. Skeletal measurements were taken and run through the FORDISC program indicating possible Native American ancestry. The Georgia Department of Natural Resources was notified and worked with the Athens-Clarke County Police Department to inspect the area where the human remains were found. No archaeological sites or cultural features are associated with the individual. The individual is housed in a secured facility at the Georgia Department of Natural Resources, Office of the State Archaeologist.

Cultural Affiliation

Based on the information available and the results of consultation, cultural affiliation is reasonably identified by the geographical location of the human remains described in this notice.

Determinations

The Georgia Department of Natural Resources has determined that:

• The human remains described in this notice represent the physical remains of one individual of Native American ancestry.

• There is a connection between the human remains described in this notice and the Eastern Band of Cherokee Indians and The Muscogee (Creek) Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 13, 2025. If competing requests for repatriation are received, the Georgia Department of Natural Resources must determine the most appropriate requestor prior to repatriation. Requests for joint repatriation of the human remains are considered a single request and not competing requests. The Georgia Department of Natural Resources is responsible for sending a copy of this notice to the Indian Tribes and Native Hawaiian organizations identified in this notice.

Authority: Native American Graves Protection and Repatriation Act, 25 U.S.C. 3003, and the implementing regulations, 43 CFR 10.10.

Dated: December 4, 2024.
Melanie O'Brien,
Manager, National NAGPRA Program.

[FR Doc. 2024-29264 Filed 12-11-24; 8:45 am]

BILLING CODE 4312-52-P